DEPARTMENT OF JUSTICE

Notice of Lodging of a Consent Decree Pursuant to the Comprehensive Environmental Response, Compensation, and Liability Act

Notice is hereby given that a proposed consent decree in United States v. Continental Equities, Inc., Civil Action No. 99-619-CIV-Seitz-Garber, was lodged on August 9, 2001, with the United States District Court for the Southern District of Florida. The proposed Consent Decree would resolve certain claims under sections 106 and 107 of the Comprehensive Environmental Response, Compensation, and Liability Act of 1980, 42 U.S.C. 9606 and 9607, as amended brought against Continental Equities, Inc. to recover response costs incurred by the Environmental Protection Agency in connection with the release of hazardous substances at the Anodyne National Priorities List Superfund Site (“Site”) in Miami, Florida. The United States alleges that Settling Defendant is liable as a person who currently owns and owned a portion of the Site at the time of disposal of a hazardous substance. Under the proposed Consent Decree, the Settling Defendant will pay $350,000 to the Hazardous Substances Superfund to reimburse the United States for response costs incurred and to be incurred at the Site.

The Department of Justice will receive, for a period of thirty (30) days from the date of this publication, comments relating to the proposed Consent Decree. Comments should be addressed to the Assistant Attorney General for the Environment and Natural Resources Division, Department of Justice, P.O. Box 7611, Washington, DC 20530, and should refer to United States v. Continental Equities, Inc., Civil Action No. 99-619-CIV (S.D.FL.), DOJ Ref. #90-11-2-881.

The Consent Decree may be examined at the Region 4 Office of the Environmental Protection Agency, 61 Forsyth Street, Atlanta, GA 30303 and the United States Attorney's Office for the Southern District of Florida, 99 NE. 4th Street, Miami, Florida, 33132 c/o Assistant U.S. Attorney Barbara Junge. A copy of the proposed consent decree may be obtained by mail from the Consent Decree Library, Post Office Box 7611, Washington, DC 20044. In requesting copies please refer to the referenced case and enclose a check in the amount of $12.00 (25 cents per page reproduction costs), payable to the Consent Decree Library.

Ellen Mahan,
Assistant Section Chief, Environmental Enforcement Section, Environment and Natural Resources Division.

[FR Doc. 01-21372 Filed 8-23-01; 8:45 am]

BILLING CODE 4410-15-M